ENVIRONMENTAL PROTECTION AGENCY

[FRL-8248-6]

Request for Nominations to the National Advisory Council for Environmental Policy and Technology (NACEPT)

AGENCY: Environmental Protection Agency (EPA).

ACTION: Notice of request for nominations.

SUMMARY: The U.S. Environmental Protection Agency (EPA) invites nominations to fill vacancies on the National Advisory Council for Environmental Policy and Technology (NACEPT). The Agency seeks qualified senior-level decision makers from diverse sectors throughout the United States to be considered for appointments. EPA encourages interested applicants to send their resumes and qualifications as soon as possible. Additional sources may be utilized in the solicitation of nominees.

ADDRESSES: Submit nominations to: Ms. Sonia Altieri, Designated Federal Officer, Office of Cooperative Environmental Management, U.S. Environmental Protection Agency (1601E), 1200 Pennsylvania Avenue NW., Washington, DC 20460.

Background: NACEPT is a federal advisory committee chartered under the Federal Advisory Committee Act, Public Law 92463. The U.S. Environmental Protection Agency established NACEPT in 1988 to provide independent advice to the EPA Administrator on a broad range of environmental policy, technology and management issues. NACEPT consists of a representative cross-section of EPA's partners, stakeholders, and constituents who provide timely advice and recommendations on environmental policy issues. NACEPT also serves as a sounding board for new initiatives that EPA is developing. For FY 06 and FY 07, the Administrator has asked NACEPT to address issues relating to sustainable water infrastructure, environmental stewardship, cooperative conservation, and energy and the environment. Members are appointed by the Administrator of EPA for two year terms with the possibility of reappointment. The Council usually meets 3 times annually and the average workload for the members is approximately 10 to 15 hours per month. Members serve on the Council in a voluntary capacity. However, EPA provides reimbursement for travel expenses associated with official government business. Potential candidates should possess the following qualifications:

• Occupy a senior position within their organization.

• Have broad experience outside of their current position.

• Demonstrate experience dealing with public policy issues.

• Have membership in broad-based networks.

• Have extensive experience in the environmental field.

• Be knowledgeable in the subject matter(s) to be addressed by NACEPT.

EPA is seeking nominees for representation from all sectors, including academia, industry, non-governmental organizations, and state, local and tribal governments. EPA seeks nominations from a wide variety of interested parties that reflect the diversity of the American public. Nominations for membership must include a resume and short biography describing the educational and professional qualifications of the nominee and the nominee's current business address and daytime telephone number.

FOR FURTHER INFORMATION CONTACT: Sonia Altieri, Designated Federal Officer, altieri.sonia@epa.gov, (202) 233-0061, U.S. EPA, Office of Cooperative Environmental Management (1601E), 1200 Pennsylvania Avenue NW., Washington, DC 20460.

Dated: November 15, 2006.
Sonia Altieri,
Designated Federal Officer.

[FR Doc. E6-20146 Filed 11-27-06; 8:45 am]

BILLING CODE 6560-50-P